FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 000692F.

Name: A. R. Savage & Son, Inc.

Address: 701 Harbour Post Dr., Tampa, FL 33602.

Date Revoked: May 27, 2009.

Reason: Failed to maintain a valid bond.

License Number: 017799NF.

Name: Alpha Freight & Transport International, Inc.

Address: 3508 NW 114th Ave., Ste. 205, Doral, FL 33178.

Date Revoked: May 27, 2009.

Reason: Surrendered license voluntarily.

License Number: 018583NF.

Name: Astron Distribution, Inc.

Address: 349 NW 16th Street, Ste. 107, Belle Glade, FL 33430.

Date Revoked: May 27, 2009.

Reason: Failed to maintain valid bonds.

License Number: 018878N.

Name: BTL Group, Inc. Dba E-World Cargo, Inc.

Address: 7910 SO. 3500 E., Ste. B, Salt Lake, UT 84121.

Date Revoked: May 6, 2009.

Reason: Surrendered license voluntarily.

License Number: 021167N.

Name: Cargonline (USA) Inc.

Address: 245 E. Main Street, Ste. 112, Alhambra, CA 91801.

Date Revoked: May 21, 2009.

Reason: Failed to maintain a valid bond.

License Number: 004084F.

Name: Glory Express, Inc.

Address: 17420 S. Avalon Blvd., Ste. 202, Carson, CA 90746.

Date Revoked: May 22, 2009.

Reason: Failed to maintain a valid bond.

License Number: 017911N.

Name: Kasy Logistics Co., Ltd.

Address: 355 S. Lemon Ave., #N, Walnut, CA 91789.

Date Revoked: May 29, 2009.

Reason: Surrendered license voluntarily.

License Number: 016503NF.

Name: Lukini Shipping Inc.

Address: One Cross Island Plaza, Ste. 203d, Rosedale, NY 11422.

Date Revoked: May 27, 2009.

Reason: Failed to maintain valid bonds.

License Number: 002145F.

Name: Henry Juliusburger DBA Nautique-Worldwide.

Address: 55 New Montgomery St., Ste. 514, San Francisco, CA 94105.

Date Revoked: May 22, 2009.

Reason: Failed to maintain a valid bond.

License Number: 013797N.

Name: Kenneth Bola Obatusin DBA Global Freightways (USA), Ltd.

Address: 10630 Riggs Hill Rd., Bldg. R, Jessup, MD 20794.

Date Revoked: May 29, 2009.

Reason: Failed to maintain a valid bond.

License Number: 016484N.

Name: Kenny International USA, Inc. DBA KTL (USA) International.

Address: 145-18 156th Street, Rm. #1, Jamaica, NY 11434.

Date Revoked: April 6, 2009.

Reason: Surrendered license voluntarily.

License Number: 020066N.

Name: Manila Forwarders Corporation.

Address: 8241 Backlick Rd., Ste. B, Lorton, VA 22079.

Date Revoked: May 29, 2009.

Reason: Failed to maintain a valid bond.

License Number: 000334F.

Name: Perryman Mojonier Company.

Address: 9720 S. La Cienega Blvd., Inglewood, CA 90301.

Date Revoked: May 29, 2009.

Reason: Failed to maintain a valid bond.

Sandra L. Kusumoto,
Director, Bureau of Certification and Licensing.

[FR Doc. E9-13651 Filed 6-9-09; 8:45 am]

BILLING CODE P